DEPARTMENT OF THE TREASURY

Submission for OMB Review; Comment Request

January 8, 2006

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before February 12, 2007 to be assured of consideration.

Internal Revenue Service (IRS)

OMB Number: 1545-1559.

Type of Review: Extension.

Title: Revenue Procedures 98-46 and 97-44, LIFO Conformity Requirement.

Description: This document contains final regulations addressing the carry over of certain attributes, such as earnings and profits and foreign income tax accounts, when two corporations combine in a corporate reorganization or liquidation that is described in both section 367(b) and section 381 of the Internal Revenue Code.

Respondents: Businesses and other for-profit institutions.

Estimated Total Burden Hours: 100,000 hours.

OMB Number: 1545-1130.

Type of Review: Extension.

Title: Special Loss Discount Account and Special Estimated Tax Payments for Insurance Companies.

Form: 8816.

Description: Form 8816 is used by insurance companies claiming an additional deduction under IRC section 847 to reconcile their special loss discount and special estimated tax payments, and to determine their tax benefit associated with the deduction. The information is needed by the IRS to determine that the proper additional deduction was claimed and to insure the proper amount of special estimated tax was computed and deposited.

Respondents: Businesses and other for-profit institutions.

Estimated Total Burden Hours: 1,983 hours.

OMB Number: 1545-1706.

Title: Revenue Procedure 2000-42 Section 1503(d) Closing Agreement Requests.

Type of Review: Extension.

Description: Revenue Procedure 2000-42 informs taxpayers of the information they must submit to request a closing agreement under Reg. S1.1503-2(g)(2)(iv)(B)(2)(i) to prevent the recapture of dual consolidated losses (DCLs) upon the occurrence of certain triggering events.

Respondents: Businesses and other for-profit institutions.

Estimated Total Burden Hours: 2,000 hours.

OMB Number: 1545-0240.

Title: Claim for Refund of Income Tax Return Preparer Penalties.

Form: 6118.

Type of Review: Extension.

Description: Form 6118 is used by preparers to file for a refund of penalties incorrectly charged. The information enables the IRS to process the claim and have the refund issued to the tax return preparer.

Respondents: Individuals or Households.

Estimated Total Burden Hours: 9,300 hours.

OMB Number: 1545-1160.

Title: CO-93-90 (Final) Corporations; Consolidated Returns-Special Rules Relating To Dispositions and Deconsolidations of Subsidiary Stock.

Type of Review: Extension.

Description: These regulations prevent elimination of corporate-level tax because of the operation of the consolidated returns investment adjustment rules. Statements are required for dispositions of a subsidiary's stock for which losses are claimed, for basis reductions within 2 years of the stock's deconsolidation, and for elections by the common parent to retain the NOLs of a disposed subsidiary.

Respondents: Businesses and other for-profit institutions.

Estimated Total Burden Hours: 6,000 hours.

OMB Number: 1545-1724.

Title: REG-109481-99 (Final) Special Rules Under Section 417(a)(7) for Written Explanations Provided by Qualified Retirement Plans After Annuity Starting Dates.

Type of Review: Extension.

Description: The collection of information requirement in sections 1.417(e)-1(b)(3)(iv)(B) and 1.417(e)-1(b)(3)(v)(A) is required to ensure that a participant and the participant's spouse consent to a form of distribution from a qualified plan that may result in reduced periodic payments.

Respondents: Individuals or households.

Estimated Total Burden Hours: 12,500 hours.

OMB Number: 1545-1450.

Title: FI-59-91 (Final), Debt Instructions With Originals Issue Discount; Contingent Payments; Anti-Abuse Rule.

Type of Review: Extension.

Description: The regulations provide definitions, general rules, and reporting requirements for debt instruments that provide for contingent payments. The regulations also provide definitions, general rules, and recordkeeping requirements for integrated debt instruments.

Respondents: Businesses and other for-profit institutions.

Estimated Total Burden Hours: 89,000 hours.

OMB Number: 1545-1451.

Title: REG-248900-96 (Final), Definition of Private Activity Bonds.

Type of Review: Extension.

Form: 8082.

Description: Section 103 provides generally that interest on certain State or local bonds is excluded from gross income. However, under sections 103(b)(1) and 141, interest on private activity bonds (other than qualified bonds) is not excluded. The regulations provide rules, for purposes of section 141, to determine how bond proceeds are measured and used and how debt service for those bonds is paid or secured.

Respondents: State, local, or tribal governments.

Estimated Total Burden Hours: 30,100 hours.

Clearance Officer: Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Robert Dahl,
Treasury PRA Clearance Officer.

[FR Doc. E7-348 Filed 1-11-07; 8:45 am]

BILLING CODE 4810-01-P